INTER-AMERICAN FOUNDATION BOARD

Inter-American Foundation Board Meeting; Sunshine Act Meetings

Time and Date: April 27, 2009, 9 a.m.-1 p.m.

Place: 901 N. Stuart Street, Tenth Floor, Arlington, Virginia 22203.

Status: Open to the public.

Matters to be Considered: • Approval of the Minutes of the December 15, 2008, Meeting of the Board of Directors

• President's Report

• Regional and Summit of the Americas Overview

• Congressional Affairs

• IAF Program Activities

• RedEAmerica

• Operations

• IAF Advisory Council

• Board Site Visit

Portions to be Open to the Public: • Approval of the Minutes of the December 15, 2008, Meeting of the Board of Directors

• President's Report

• Regional and Summit of the Americas Overview

• Congressional Affairs

• IAF Program Activities

• RedEAmerica

• Operations

• IAF Advisory Council

• Board Site Visit

FOR FURTHER INFORMATION CONTACT: Jennifer Hodges Reynolds, General Counsel, (703) 306-4301.

Dated: April 13, 2009.
Jennifer Hodges Reynolds,
General Counsel.

[FR Doc. E9-9215 Filed 4-17-09; 4:15 pm]

BILLING CODE 7025-01-P